DEPARTMENT OF HEALTH AND HUMAN SERVICES

Administration for Children and Families

[OMB No. 0970-0215]

Proposed Information Collection Activity; Tribal TANF Data Report, TANF Annual Report, and Reasonable Cause/Corrective Action Documentation Process

AGENCY: Office of Family Assistance, Administration for Children and Families, HHS.

ACTION: Request for public comment.

SUMMARY: The Administration for Children and Families (ACF) is requesting a 3-year extension of the form OFA-0084: Tribal TANF Data Report, TANF Annual Report, and Reasonable Cause/Corrective Action Documentation Process (OMB #0970-0215, expiration 4/30/2022). There are no changes requested to the form.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION: Description: 42 U.S.C. 612 (section 412 of the Social Security Act as amended by Pub. L. 104-193, the Personal Responsibility and Work Opportunity Reconciliation Act of 1996), mandates that federally recognized Indian tribes with an approved Tribal TANF program collect and submit to the Secretary of the Department of Health and Human Services data on the recipients served by the tribes' programs. This information collection includes both aggregated and disaggregated data on case characteristics and individual characteristics. In addition, tribes that are subject to a penalty are allowed to provide reasonable cause justifications as to why a penalty should not be imposed or may develop and implement corrective compliance procedures to eliminate the source of the penalty. Finally, there is an annual report, which requires the tribes to describe program characteristics. All of the above requirements are currently approved by OMB and ACF is simply proposing to extend them without any changes.

Respondents: Native American tribes and tribal organizations operating Tribal TANF programs.

Annual Burden Estimates
Instrument | Total number of respondents | Annual number of responses per respondent | Average burden hours per response | Annual burden hours
Final Tribal TANF Data Report | 75 | 4 | 451 | 135,300
Tribal TANF Annual Report | 75 | 1 | 40 | 3,000
Tribal TANF Reasonable Cause/Corrective | 10 | 1 | 60 | 600

Estimated Total Annual Burden Hours: 138,900.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 612, 45 CFR part 286.

Mary B. Jones,
ACF/OPRE Certifying Officer.

[FR Doc. 2022-02922 Filed 2-10-22; 8:45 am]

BILLING CODE 4184-36-P